SECURITIES AND EXCHANGE COMMISSION

[Release No. 34-80748; File No. SR-NYSEMKT-2017-20]

Self-Regulatory Organizations; NYSE MKT LLC; Notice of Filing and Immediate Effectiveness of Proposed Change To Amend the Rules of the Exchange, the NYSE MKT Equities Price List, the NYSE Amex Options Fee Schedule, and the NYSE Amex Options Proprietary Market Data Fees

May 23, 2017.

Pursuant to Section 19(b)(1) ¹ of the Securities Exchange Act of 1934 (the “Act”) ² and Rule 19b-4 thereunder,³ notice is hereby given that, on May 19, 2017, NYSE MKT LLC (the “Exchange” or “NYSE MKT”) filed with the Securities and Exchange Commission (the “Commission”) the proposed rule change as described in Items I, II, and III below, which Items have been prepared by the self-regulatory organization. The Commission is publishing this notice to solicit comments on the proposed rule change from interested persons.

¹ 15 U.S.C. 78s(b)(1).

² 15 U.S.C. 78a.

³ 17 CFR 240.19b-4.

I. Self-Regulatory Organization's Statement of the Terms of Substance of the Proposed Rule Change

The Exchange proposes, in connection with its name change to NYSE American LLC (“NYSE American”), to rebrand the Exchange's facility for trading options (“Options Market”), from “NYSE Amex Options” to “NYSE American Options” and to amend the rules of the Exchange, the NYSE MKT Equities Price List (“Price List”), the NYSE Amex Options Fee Schedule (“Fee Schedule”), and the NYSE Amex Options Proprietary Market Data Fees (“Options Market Data Fees”) to reflect that rebranding. The Exchange also proposes to delete obsolete references in the rules and the NYSE MKT LLC Company Guide (“Company Guide”). The proposed change is available on the Exchange's Web site at www.nyse.com, at the principal office of the Exchange, and at the Commission's Public Reference Room.

II. Self-Regulatory Organization's Statement of the Purpose of, and Statutory Basis for, the Proposed Rule Change

In its filing with the Commission, the self-regulatory organization included statements concerning the purpose of, and basis for, the proposed rule change and discussed any comments it received on the proposed rule change. The text of those statements may be examined at the places specified in Item IV below. The Exchange has prepared summaries, set forth in sections A, B, and C below, of the most significant parts of such statements.

A. Self-Regulatory Organization's Statement of the Purpose of, and Statutory Basis for, the Proposed Rule Change

1. Purpose

NYSE MKT proposes, in connection with its name change to NYSE American LLC (“NYSE American”),⁴ to rebrand the Exchange's Options Market from “NYSE Amex Options” to “NYSE American Options.” Therefore, the Exchange now proposes to amend the rules of the Exchange, Company Guide, Price List, Fee Schedule, and Options Market Data Fees to reflect that rebranding.

⁴ See Securities Exchange Act Release No. 80283 (March 21, 2017), 82 FR 15244 (March 27, 2017) (SR-NYSEMKT-2017-14).

The Exchange also proposes to delete obsolete references to a former name from the rules and the Company Guide.⁵

⁵ See Securities Exchange Act Release No. 67037 (May 21, 2012), 77 FR 31415 (May 25, 2012) (SR-NYSEAmex-2012-32).

Background

Option contracts may be approved for listing and trading on the Exchange's Options Market, which is referred to as “NYSE Amex Options.” ⁶ On March 16, 2017, NYSE MKT filed rule changes with the Commission in connection with its name change to NYSE American LLC.⁷ The Exchange has now determined that for consistency and marketing purposes it would be desirable to rebrand the Options Market from “NYSE Amex Options” to “NYSE American Options.” ⁸

⁶ See Rule 900.2NY(47) (Definitions) (providing that “[t]he term `NYSE Amex Options' shall refer to those aspects of the Self-Regulatory Organization and the Trading Facilities business of NYSE MKT LLC licensed to trade Options by the Exchange”). See also Section 900 NY (Rules Principally Applicable to Trading of Options Contracts) of the Exchange's Rules.

⁷ See Securities Exchange Act Release No. 80283, supra note 4.

⁸ NYSE Amex Options LLC, a Delaware limited liability company, operates the Options Market. See Securities Exchange Act Release No. 64742 (June 24, 2011), 76 FR 38436 (June 30, 2011) (SR-NYSEAmex-2011-18), at 38436. The Exchange proposes to rebrand the name of the Options Market, but does not propose to change the name of NYSE Amex Options LLC.

The proposed rule changes would become operative upon the effectiveness of the NYSE MKT name change to NYSE American, which is expected to be no later than July 30, 2017.

The Exchange notes that the name change originally was expected to become effective no later than June 30, 2017.⁹ Because the Exchange now anticipates that the name change will become effective at a subsequent date, not only the proposed rule changes, discussed below, but also the rule changes filed on March 16, 2017 ¹⁰ in connection with the name change to NYSE American, would become operative upon the effectiveness of the NYSE MKT name change to NYSE American, which is expected to be no later than July 30, 2017. The Exchange will announce via Trader Notice the effective date of the name change.

⁹ See Securities Exchange Act Release No. 80283, supra note 4, at 15246.

¹⁰ See Securities Exchange Act Release No. 80283 (March 21, 2017), 82 FR 15244 (March 27, 2017) (SR-NYSEMKT-2017-14).

Proposed Changes

In connection with the rebranding of the Options Market, the Exchange proposes to amend the rules as described below:

• The Exchange proposes to change the name of its trading permit from “Amex Trading Permit” to “American Trading Permit.” Consistent with that change, it proposes to change the terms “Amex Trading Permits” and “Amex Trading Permit Holder” to “American Trading Permits” and “American Trading Permit Holder,” respectively. To implement the change, it proposes to replace “Amex” with “American” in Rule 350 (Ownership Requirements); Rule 353 (Amex Trading Permit Requirements); Rule 353A (Revocable Privilege; Termination of an Amex Trading Permit); Rule 358 (Processing Fees and Other Charges Associated with Amex Trading Permit); Rule 358A (Special Charge and Charge Upon Options Transactions); Rule 359 (Application and Termination Forms); Rule 359B (Limited Transferability); and, where applicable, in the respective title of the aforementioned rules.

• The Exchange proposes to change the term “NYSE Amex Options Trading Floor” to “NYSE American Options Trading Floor”. To implement the change, it proposes to replace “Amex” with “American” in Rule 6A—Equities (`Trading Floor') and Rule 36—Equities (Communications between Exchange and Members' Offices), Supplementary Material .21, .23, and .70.

• In Rule 70—Equities (Execution of Floor Broker Interest), Supplementary Material .40, the Exchange proposes to replace “Amex” with “American” in the term “NYSE Amex option.”

• In Rule 900.2NY (Definitions), the Exchange proposes to amend “NYSE Amex Options” to the term “NYSE American Options” and “Amex Trading Permit” to the term “American Trading Permit”. To implement the change, the Exchange proposes to replace “Amex” with “American” throughout the rule.

• In Rule 902NY (Admission and Conduct on the Options Trading Floor), the Exchange proposes to replace “Amex” with “American” in the terms “Officer of NYSE Amex Options”, “NYSE Amex Options automated trading system”, and “Reserve Floor Market Maker Amex Trading Permit.”

• In Rule 1000—AEMI (Portfolio Depository Receipts), Commentary .03 and .06, and Rule 1000A-AEMI (Index Fund Shares), Commentary .02 and .05, the Exchange proposes to delete “Amex” from the term “Amex Company Guide”, consistent with the definition of “Company Guide” in the Exchange's rules.¹¹

¹¹ See Definition 37 (“Company Guide”) in the General and Floor Rules.

In addition, the Exchange proposes to amend the following documents as described below:

• Fee Schedule: The Exchange proposes to replace “Amex” with “American” in the references to “NYSE Amex Options” in the title and throughout the Fee Schedule. The Exchange also proposes to replace “Amex” with “American” in the terms “NYSE Amex Options Market Maker”, “NYSE Amex”, “NYSE Amex Options Floor Market Maker”, “NYSE Amex Options Market Making firm” and “Amex Customer Engagement (“ACE”) Program.” Additionally, the Exchange proposes to make a technical correction to the term “NYSE Amex Market Maker” by adding the missing word “Options” and updating such reference to “NYSE American Options Market Maker.”

• Price List: Under “Co-Location Fees,” the Exchange proposes to replace “Amex” with “American” in the term “NYSE Amex Options.”

• Options Market Data Fees: The Exchange proposes to replace references to “Amex” with “American” found in the title, headings, and product names throughout the Options Market Data Fees.

The Exchange also proposes to clean up obsolete references to the Exchange's former name, Amex, as follows:

• When the Exchange's name was changed from NYSE Amex LLC to NYSE MKT LLC, it changed its rule naming convention by replacing “—NYSE Amex Equities” with “—Equities”.¹² However, Rule 5210—Equities (Publication of Transactions and Quotations), Supplementary Material .01, retains cross references using the old naming convention. The Exchange accordingly proposes to update such references to “—NYSE Amex Equities” rules to “—Equities” rules.

¹² See Securities Exchange Act Release No. 67037 (May 21, 2012), 77 FR 31415 (May 25, 2012) (SR-NYSEAmex-2012-32), at 31416. For example, Rule 0—NYSE Amex Equities became Rule 0—Equities.

• In Sec.137 (Depository Eligibility) of the Company Guide, the Exchange proposes to replace “Amex Rule 777” with “Rule 777.”

None of the foregoing changes are substantive.¹³

¹³ The Exchange will submit subsequent rule filings as necessary to make any technical corrections to proposed rule changes that are pending as of the date of submission of this filing and approved by the Commission thereafter.

2. Statutory Basis

The Exchange believes that the proposed rule change is consistent with Section 6(b) of the Exchange Act ¹⁴ in general, and with Section 6(b)(1) ¹⁵ in particular, in that it enables the Exchange to be so organized as to have the capacity to be able to carry out the purposes of the Exchange Act and to comply, and to enforce compliance by its exchange members and persons associated with its exchange members, with the provisions of the Exchange Act, the rules and regulations thereunder, and the rules of the Exchange.

¹⁴ 15 U.S.C. 78f(b).

¹⁵ 15 U.S.C. 78f(b)(1).

The proposed rule change is a non-substantive change and does not impact the governance or ownership of the Exchange. The Exchange believes that the proposed rule change would enable the Exchange to continue to be so organized as to have the capacity to carry out the purposes of the Exchange Act and comply and enforce compliance with the provisions of the Exchange Act by its members and persons associated with its members, because ensuring that the Exchange's rules, Price List, Fee Schedule, and Options Market Data Fees accurately reflect the name of the Options Market would contribute to the orderly operation of the Exchange by adding clarity and transparency to such documents and rules.

For similar reasons, the Exchange also believes that the proposed rule change is consistent with Section 6(b)(5) of the Act,¹⁶ in that it is designed to prevent fraudulent and manipulative acts and practices, to promote just and equitable principles of trade, to foster cooperation and coordination with persons engaged in facilitating transactions in securities, to remove impediments to and perfect the mechanism of a free and open market and a national market system and, in general, to protect investors and the public interest.

¹⁶ 15 U.S.C. 78f(b)(5).

The Exchange believes that the proposed rule change would remove impediments to and perfect the mechanism of a free and open market and a national market system by ensuring that market participants can more easily navigate, understand and comply with the Exchange's rules, Price List, Fee Schedule, and Options Market Data Fees. The Exchange believes that, by ensuring that such documents and rulebook accurately reflect the name of the Options Market, which aligns with the name of the Exchange, the proposed rule change would reduce potential investor or market participant confusion.

The Exchange believes that eliminating obsolete references to the Exchange's previous name would not be inconsistent with the public interest and the protection of investors because investors will not be harmed and in fact would benefit from increased transparency, thereby reducing potential confusion. Removing such obsolete references will also further the goal of transparency and add clarity to the Exchange's rules and Company Guide.

B. Self-Regulatory Organization's Statement on Burden on Competition

The Exchange does not believe that the proposed rule change will impose any burden on competition that is not necessary or appropriate in furtherance of the purposes of the Act. The proposed rule change is not intended to address competitive issues but rather is concerned solely with updating the Exchange's rules, Company Guide, Price List, Fee Schedule, and Options Market Data Fees to reflect the new name of the Exchange and the subsequent related rebranding of its options business.

C. Self-Regulatory Organization's Statement on Comments on the Proposed Rule Change Received From Members, Participants, or Others

No written comments were solicited or received with respect to the proposed rule change.

III. Date of Effectiveness of the Proposed Rule Change and Timing for Commission Action

The proposed rule change has become effective pursuant to Section 19(b)(3)(A) of the Act ¹⁷ and Rule 19b-4(f)(3) ¹⁸ thereunder in that the proposed rule change is concerned solely with the administration of the Exchange.

¹⁷ 15 U.S.C. 78s(b)(3)(A).

¹⁸ 17 CFR 240.19b-4(f)(3).

At any time within 60 days of the filing of the proposed rule change, the Commission summarily may suspend such rule change if it appears to the Commission that such action is necessary or appropriate in the public interest, for the protection of investors, or otherwise in furtherance of the purposes of the Act. If the Commission takes such action, the Commission shall institute proceedings under Section 19(b)(2)(B) ¹⁹ of the Act to determine whether the proposed rule change should be approved or disapproved.

¹⁹ 15 U.S.C. 78s(b)(2)(B).

IV. Solicitation of Comments

Interested persons are invited to submit written data, views and arguments concerning the foregoing, including whether the proposed rule change is consistent with the Act. Comments may be submitted by any of the following methods:

Electronic Comments

• Use the Commission's Internet comment form (http://www.sec.gov/rules/sro.shtml); or

• Send an email to rule-comments@sec.gov. Please include File Number SR-NYSEMKT-2017-20 on the subject line.

Paper Comments

• Send paper comments in triplicate to Secretary, Securities and Exchange Commission, 100 F Street NE., Washington, DC 20549-1090.

All submissions should refer to File Number SR-NYSEMKT-2017-20. This file number should be included on the subject line if email is used. To help the Commission process and review your comments more efficiently, please use only one method. The Commission will post all comments on the Commission's Internet Web site (http://www.sec.gov/rules/sro.shtml). Copies of the submission, all subsequent amendments, all written statements with respect to the proposed rule change that are filed with the Commission, and all written communications relating to the proposed rule change between the Commission and any person, other than those that may be withheld from the public in accordance with the provisions of 5 U.S.C. 552, will be available for Web site viewing and printing in the Commission's Public Reference Room, 100 F Street NE., Washington, DC 20549, on official business days between the hours of 10:00 a.m. and 3:00 p.m. Copies of the filing also will be available for inspection and copying at the principal office of the Exchange. All comments received will be posted without change; the Commission does not edit personal identifying information from submissions. You should submit only information that you wish to make available publicly. All submissions should refer to File Number SR-NYSEMKT-2017-20 and should be submitted on or before June 20, 2017.

For the Commission, by the Division of Trading and Markets, pursuant to delegated authority.²⁰
²⁰ 17 CFR 200.30-3(a)(12).
Eduardo A. Aleman,
Assistant Secretary.

[FR Doc. 2017-10983 Filed 5-26-17; 8:45 am]

BILLING CODE 8011-01-P